DEPARTMENT OF HOMELAND SECURITY

Coast Guard

33 CFR Part 165

[COTP Guam 07-005]

RIN 1625-AA87

Security Zone; Tinian, Commonwealth of the Northern Mariana Islands

AGENCY: Coast Guard, DHS.

ACTION: Final rule.

SUMMARY: The Coast Guard is changing a permanent security zone in waters adjacent to the island of Tinian, Commonwealth of the Northern Mariana Islands (CNMI). Review of the established zone indicates that its scope is overly-broad and that it imposes an unnecessary and unsustainable enforcement burden on the Coast Guard. This change is intended to narrow the zone's scope so it more accurately reflects current enforcement needs.

DATES: This rule is effective December 21, 2007.

ADDRESSES: Comments and material received from the public, as well as documents indicated in this preamble as being available in the docket, are part of docket COTP Guam 07-005 and are available for inspection and copying at Coast Guard Sector Guam between 7 a.m. and 3:30 p.m., Monday through Friday, except Federal holidays.

FOR FURTHER INFORMATION CONTACT: Lieutenant Commander John Winter, U.S. Coast Guard Sector Guam at (671) 355-4861.

SUPPLEMENTARY INFORMATION:

Regulatory Information

On August 17, 2007, we published a notice of proposed rulemaking (NPRM) entitled Security Zone; Tinian, Commonwealth of the Northern Mariana Islands in the Federal Register (72 FR 46185). We received no letters commenting on the proposed rule. No public meeting was requested, and none was held.

Background and Purpose

The security zones at Tinian codified in 33 CFR 165.1403 were first established on November 14, 1986 (51 FR 42220, November 24, 1986), as requested by the U.S. Navy in order to prevent injury or damage to persons and equipment incident to the mooring of the first Maritime Preposition Ships in the port. In addition to describing a larger security zone that is enforced when a Maritime Position Ship is moored at the site, the regulation, as currently written, establishes a permanent 50-yard security zone around Moorings A and B when no vessel is moored there. The zone is approximately 100 nautical miles from the nearest Coast Guard surveillance assets, a distance that hinders our ability to patrol it regularly.

A recent review of the 50-yard zone indicates that patrolling it is unnecessary except when the Navy needs to ensure availability of the mooring space, which is signaled by the anchoring of mooring balls. The purpose of this rule is to change the smaller zone from one that is activated all the time to one that is activated only when necessary. This change reflects our current enforcement needs more accurately and eliminates our need to travel 100 miles to patrol the zone when enforcement is unnecessary.

In addition, we are changing the section heading of this regulation to reflect CNMI's proper name and the fact that the section describes two security zones. We also made it easier to distinguish the two zones by describing them in separate paragraphs in 33 CFR 165.1403(a). Finally, we are clarifying that, while these regulations are in effect at all times, the security zones will only be activated—and thus subject to enforcement—when necessary.

Discussion of Comments and Changes

We did not receive any comments in response to our NPRM. No changes were made to the regulation text proposed in the NPRM.

Regulatory Evaluation

This rule is not a “significant regulatory action” under section 3(f) of Executive Order 12866, Regulatory Planning and Review, and does not require an assessment of potential costs and benefits under section 6(a)(3) of that Order. The Office of Management and Budget has not reviewed it under that Order.

The Coast Guard expects the economic impact of this rule to be so minimal that a full Regulatory Evaluation is unnecessary. This expectation is based on the nature of the change (diminishing an established security zone's enforcement period), which is likely to further minimize the economic impact of an established rule.

Small Entities

Under the Regulatory Flexibility Act (5 U.S.C. 601-612), we have considered whether this rule will have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. Due to the nature of the change (diminishing an established security zone's enforcement period), we anticipate that it will further reduce any economic impact of the established rule. If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this rule so that they can better evaluate its effects on them and participate in the rulemaking. If the rule would affect your small business, organization, or governmental jurisdiction and you have questions concerning its provisions or options for compliance, please contact Lieutenant Commander John Winter, U.S. Coast Guard Sector Guam, (671) 355-4861. The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such expenditure, we do discuss the effects of this rule elsewhere in this preamble.

Taking of Private Property

This rule will not affect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.lD and Department of Homeland Security Management Directive 5100.1, which guide the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (34)(g) of the Instruction, from further environmental documentation. That provision excludes regulations establishing or changing security zones.

A final “Environmental Analysis Check List” and a final “Categorical Exclusion Determination” are available in the docket where indicated under ADDRESSES.

List of Subjects in 33 CFR Part 165

Harbors, Marine safety, Navigation (water), Reports and recordkeeping requirements, Security measures, Waterways.

For the reasons set out in the preamble, the Coast Guard amends 33 CFR part 165 as follows:

PART 165—REGULATED NAVIGATION AREAS AND LIMITED ACCESS AREAS

1. The authority citation for part 165 continues to read as follows:

Authority: 33 U.S.C. 1226, 1231; 46 U.S.C. Chapter 701; 50 U.S.C. 191, 195; 33 CFR 1.05-1, 6.04-1, 6.04-6, and 160.5; Pub. L. 107-295, 116 Stat. 2064; Department of Homeland Security Delegation No. 0170.1.

2. In § 165.1403, revise the section heading and paragraph (a) to read as follows:

§ 165.1403 Security Zones; Tinian, Commonwealth of the Northern Mariana Islands.

(a) Location. The following areas are security zones:

(1) The waters of the Pacific Ocean off Tinian between 14°59′04.9″ N, 145°34′58.6″ E to 14°59′20.1″ N, 145°35′41.5″ E to 14°59′09.8″ N, 145°36′02.1″ E to 14°57′49.3″ N, 145°36′28.7″ E to 14°57′29.1″ N, 145°35′31.1″ E and back to 14°59′04.9″ N, 145°34′58.6″ E. This zone will be enforced when one, or more, of the Maritime Preposition Ships is in the zone or moored at Mooring A located at 14°58′57.0″ N and 145°35′40.8″ E or Mooring B located at 14°58′15.9″ N, 145°35′54.8″ E.

(2) Additionally, a 50-yard security zone in all directions around Moorings A and B will be enforced when no vessels are moored thereto but mooring balls are anchored and on station.

Note to § 165.1403(a): All positions of latitude and longitude are from International Spheroid, Astro Pier 1944 (Saipan) Datum (NOAA Chart 81071).

* * * * *

Dated: November 9, 2007.
William Marhoffer,
Captain, U.S. Coast Guard, Captain of the Port Guam.

[FR Doc. E7-22694 Filed 11-20-07; 8:45 am]

BILLING CODE 4910-15-P